DEPARTMENT OF HOMELAND SECURITY

Coast Guard

33 CFR Part 165

[Docket No. USCG-2024-0371]

Safety Zone; Atlantic Ocean, Key West, FL

AGENCY: Coast Guard, DHS.

ACTION: Notice of enforcement of regulation.

SUMMARY: The Coast Guard will enforce the safety zone for the College of the Florida Keys Swim Around Key West, Key West, Florida to provide for the safety of life on the navigable waterways during this event. This action is necessary to ensure the safety of event participants and spectators. During the enforcement period, no person or vessel may enter, transit through, anchor in, or remain within the regulated area without approval from the Captain of the Port Key West or a designated representative.

DATES: The regulation in 33 CFR 165.786 will be enforced for the location identified in item 6.1 of the table to § 165.786, from 9 a.m. until 5 p.m. on June 8, 2024.

FOR FURTHER INFORMATION CONTACT: If you have questions on this notice, call or email Hayden Hunt, Sector Key West Waterways Management Department, Coast Guard; telephone (305) 292-8823; email Hayden.B.Hunt@uscg.mil.

SUPPLEMENTARY INFORMATION: The Coast Guard will enforce the safety zone in 33 CFR 165.786, table to § 165.786, item 6.1, for the College of the Florida Keys Swim Around Key West from 9 a.m. until 5 p.m. on June 8, 2024. This action is being taken to provide for the safety of life on navigable waterways during this event. The regulation for recurring marine events within Sector Key West Captain of the Port (COTP) zone, 165.786, table to § 165.786, item 6.1, specifies the location of the regulated area. During the enforcement period, as reflected in § 165.786(a) no person or vessel may enter, transit through, anchor in, or remain within the established regulated areas without approval from the Captain of the Port Key West or designated representative. The Coast Guard may be assisted by other Federal, State, or local law enforcement agencies in enforcing this regulation.

The Coast Guard will provide notice of the regulated area by Local Notice to Mariners and Broadcast Notice to Mariners. If the Captain of the Port Key West determines that the regulated area need not be enforced for the full duration stated in this publication, he or she may use a Broadcast Notice to Mariners to grant general permission to enter the regulated area.

Dated: May 15, 2024.
Jason. D. Ingram,
Captain, U.S. Coast Guard, Captain of the Port Key West.

[FR Doc. 2024-11057 Filed 5-20-24; 8:45 am]

BILLING CODE 9110-04-P